DEPARTMENT OF COMMERCE

International Trade Administration

[A-570-863]

Honey from the People's Republic of China: Notice of Partial Rescission of Antidumping Duty Administrative Review

AGENCY: Import Administration, International Trade Administration, Department of Commerce.

SUMMARY: On January 31, 2005, the Department of Commerce (“the Department”) published in the Federal Register (70 FR 4818) a notice announcing the initiation of the administrative review of the antidumping duty order on honey from the People's Republic of China (“PRC”). The period of review (“POR”) is December 1, 2003, to November 30, 2004. This review is now being rescinded for Anhui Native Produce Import and Export Corp., and Inner Mongolia Autonomous Region Native Produce and Animal By-Products Import and Export Corporation, because the only requesting party withdrew its request in a timely manner.

EFFECTIVE DATE: May 25, 2005.

FOR FURTHER INFORMATION CONTACT: Catherine Bertrand or Anya Naschak, AD/CVD Operations, Office 9, Import Administration, U.S. Department of Commerce, 14th Street and Constitution Avenue, NW, Room 4003, Washington, DC 20230; telephone (202) 482-3207 or (202) 482-6375, respectively.

SUPPLEMENTARY INFORMATION:

Background

On December 10, 2001, the Department published in the Federal Register an antidumping duty order covering honey from the PRC. See Notice of Amended Final Determination of Sales at Less Than Fair Value and Antidumping Duty Order; Honey from the People's Republic of China, 66 FR 63670 (December 10, 2001). On December 1, 2004, the Department published a Notice of Opportunity to Request an Administrative Review of Antidumping or Countervailing Duty Order, Finding, or Suspended Investigation, 69 FR 69889. On December 30, 2004, the American Honey Producers Association and the Sioux Honey Association (collectively, Petitioners), requested, in accordance with section 351.213(b) of the Department's regulations, an administrative review of the antidumping duty order on honey from the PRC for nineteen companies¹ covering the period December 1, 2003, through November 30, 2004. On December 30, 2004, and January 3, 2005, nine Chinese companies requested an administrative review of their respective companies. The Department notes that Petitioners' request covered these nine companies as well.

¹ Among these 19 companies are “Inner Mongolia Autonomous Region Native Produce and Animal By-Products Import & Export Corp.,” and “Inner Mongolia Autonomous Region Native Produce and Animal By-Products.” These two names refer to the same company and the review is, therefore, being rescinded with respect to both iterations of the name.

On January 31, 2005, the Department initiated an administrative review of nineteen Chinese companies. See Initiation of Antidumping and Countervailing Duty Administrative Reviews and Request for Revocation in Part, 70 FR 4818 (January 31, 2005). On February 22, 2005, Petitioners filed a letter withdrawing their request for review of seven companies. On March 29, 2005, the Department rescinded this review with respect to those seven companies, as only petitioners had requested a review of those companies. See Notice of Partial Rescission of Antidumping Duty Administrative Review: Honey from the People's Republic of China, 70 FR 15836 (March 29, 2005).

On April 28, 2005, Petitioners withdrew their request for review of Anhui Native Produce Import and Export Corp., and on April 29, 2005, Petitioners withdrew their request for review of Inner Mongolia Autonomous Region Native Produce and Animal By-Products Import and Export Corporation. Petitioners were the only party to request a review of these two companies.

Rescission of Review

The applicable regulation, 19 CFR 351.213(d)(1), states that if a party that requested an administrative review withdraws the request within 90 days of the publication of the notice of initiation of the requested review, the Secretary will rescind the review. Petitioners withdrew their review request with respect to the two companies within the 90-day deadline, in accordance with 19 CFR 351.213(d)(1). Since Petitioners were the only party to request an administrative review of these two companies, we are partially rescinding this review of the antidumping duty order on honey from the PRC covering the period December 1, 2003, through November 30, 2004, with respect to Anhui Native Produce Import and Export Corp. and Inner Mongolia Autonomous Region Native Produce and Animal By-Products Import and Export Corporation.

Assessment

The Department will instruct U.S. Customs and Border Protection (“CBP”) to assess antidumping duties on all appropriate entries. For those companies for which this review is rescinded, antidumping duties shall be assessed at rates equal to the cash deposit of estimated antidumping duties required at the time of entry, or withdrawal from warehouse, for consumption, in accordance with 19 CFR 351.212(c)(1)(i). The Department will issue appropriate assessment instructions directly to CBP within 15 days of publication of this notice.

Notification of Interested Parties

This notice serves as a final reminder to importers of their responsibility under 19 CFR 351.402(f)(2) to file a certificate regarding the reimbursement of antidumping duties prior to liquidation of the relevant entries during this review period. Failure to comply with this requirement could result in the Secretary's presumption that reimbursement of the antidumping duties occurred and the subsequent assessment of double antidumping duties.

This notice also serves as a reminder to parties subject to administrative protective orders (“APOs”) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

This notice is issued and published in accordance with sections 751 and 777(i) of the Act and 19 CFR 351.213(d)(4).

Dated: May 18, 2005.
Barbara E. Tillman,
Acting Deputy Assistant Secretary for Import Administration.

[FR Doc. E5-2600 Filed 5-24-05; 8:45 am]

BILLING CODE 3510-DS-S